DEPARTMENT OF HEALTH AND HUMAN SERVICES

Centers for Disease Control and Prevention

[60Day-03-40]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor , CDC Assistant Reports Clearance Officer, 1600 Clifton Road, MS-D24, Atlanta, GA 30333. Written comments should be received within 60 days of this notice.

Proposed Project: Examining the Effectiveness of HIV Prevention Messages—New—National Center for HIV, STD, and TB Prevention (NCHSTP), Centers for Disease Control and Prevention (CDC). This project involves the development and cognitive testing of HIV prevention messages in the format of computerized brochures. The efficacy of various types of prevention messages will be evaluated in three experimental studies with populations at risk of acquiring or transmitting HIV. The studies will test different ways of communicating, framing and presenting HIV prevention messages. Outcomes to be examined include the extent to which the message is considered acceptable, comprehensible, and credible by the intended audience, as well as the extent to which the message influences knowledge, attitudes, and readiness or intentions to reduce or eliminate risk behaviors. Data will be collected using audio-computer assisted self-interviews. The results will be used by CDC, and other organizations and researchers to inform prevention activities. There is no cost to the respondents.

Form | No. of respondents | No. of responses per respondent | Average burden per response (in hours) | Total burden (in hours)
Eligibility Screener | 1600 | 1 | 15/60 | 400
Message Complexity Study Questionnaire | 200 | 1 | 1 | 200
Message Framing Study Questionnaire | 600 | 1 | 1 | 600
Message Presentation Study Questionnaire | 450 | 1 | 1 | 450
Total |  |  |  | 1650

Dated: January 30, 2003.
Thomas Bartenfeld,
Acting Associate Director for Policy, Planning and Evaluation, Centers for Disease Control and Prevention.

[FR Doc. 03-2782 Filed 2-4-03; 8:45 am]

BILLING CODE 4163-18-P